DEPARTMENT OF THE INTERIOR

Bureau of Land Management

[LLNVL01000. L51100000.GN0000. LVEMF1201170 241A; NVN-090444; 13-08807; MO#4500047785; TAS: 14X5017]

Notice of Availability of the Draft Environmental Impact Statement for the Proposed Pan Mine Project, White Pine County, NV

AGENCY: Bureau of Land Management, Department of the Interior.

ACTION: Notice of availability.

SUMMARY: In compliance with the National Environmental Policy Act of 1969, as amended (NEPA), and the Federal Land Policy and Management Act of 1976, as amended (FLPMA), the Bureau of Land Management (BLM) Egan Field Office, Ely, Nevada has prepared a Draft Environmental Impact Statement (EIS) for the proposed Pan Mine Project and by this notice is announcing the opening of the comment period.

DATES: To ensure comments will be considered, the BLM must receive written comments on the Pan Mine Project Draft EIS within 45 days following the date the Environmental Protection Agency publishes its Notice of Availability in the Federal Register. The BLM will announce any public meetings or other public involvement activities at least 15 days in advance through public notices, media releases, and/or mailings.

ADDRESSES: You may submit comments related to the Pan Mine Project by any of the following methods:

• Email: BLM_NV_EYDO_Midway_Pan_EIS@blm.gov.

• Fax: 775-289-1910.

• Mail: BLM Ely District, Egan Field Office, HC 33, Box 33500, Ely, NV 89301.

Copies of the Pan Mine Project Draft EIS are available in the Ely District Office at the above address and on the Ely District's Web page at http://www.blm.gov/nv/st/en/fo/ely_field_office/blm_programs/minerals/mining_projects/pan_mine_project.html.

FOR FURTHER INFORMATION CONTACT: For further information contact Miles Kreidler, project lead, telephone: 775-289-1893; address: 702 North Industrial Way, Ely, NV 89301; email: mkreidler@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Midway Gold US, Inc., (Midway) proposes to construct and operate an open-pit gold mining operation in the northern part of the Pancake Mountain Range, approximately 50 miles west of Ely in White Pine County, Nevada. The proposed location is 10 miles south of US Route 50 near Newark Valley. The proposed operations and associated disturbance would be on approximately 3,204 acres of public land managed by the BLM. The proposed power line runs along Highway 50 and south along a proposed access road to the mine site. An updated inventory of lands with wilderness characteristics was completed and found no lands with wilderness characteristics in the project area. The projected project life of the mine is 25 years: 13 years of mining and additional time for associated construction, closure, and post-closure monitoring periods. Midway is currently conducting exploration activities in this area which were analyzed in 2 environmental assessments (EAs): the Castleworth Ventures, Inc. Pan Exploration Project EA (May 2004) and the Midway Gold Pan Project Exploration Amendment EA (July 2011).

The Draft EIS describes and analyzes the proposed project site-specific impacts (including cumulative) on all affected resources. There are 3 action alternatives (including the Proposed Action) analyzed in addition to the No Action Alternative. The Waste Rock Disposal Site Design Alternative would result in a decrease of 79 acres of disturbance compared to the Proposed Action. It would also involve a more conventional waste rock disposal design and move waste rock away from more important greater sage-grouse habitat. The Southwest Power Line Alternative was developed to addresses concerns of potential impacts to greater sage-grouse from the Proposed Action power line. It is marginally further away and is less visible from 2 active greater sage-grouse leks. There were 10 other alternatives considered but eliminated from further analysis. Mitigation measures are considered to minimize environmental impacts and to assure the proposed action does not result in unnecessary or undue degradation of public lands.

On April 16, 2012, a Notice of Intent was published in the Federal Register inviting scoping comments on the proposed action. A legal notice was prepared by the BLM and published in the Elko Daily Free Press, Ely Daily Times, and the Reno Gazette-Journal informing the public of the BLM's intention to prepare the Pan Mine EIS. Public scoping meetings were held in May 2012 in Ely, Eureka, and Reno, Nevada. A total of 26 comments were received. The comments are incorporated in a Scoping Summary Report and were considered in the preparation of this Draft EIS.

Concerns raised during scoping include: potential impacts to archaeological resources, including damage to Carbonari sites and the loss of use of the 1913 alternative route of the Lincoln Highway; impacts to population and habitat of greater sage-grouse; impacts to wild horses and their habitat; impacts to air quality through point (equipment) and non-point (waste rock disposal areas) pollution sources; changes to the quantity and quality of surface water and groundwater; potential occurrence of acid drainage from waste rock disposal areas into surface and groundwater; impacts to the sensitive desert landscape, vegetation communities, and vegetative food resources for wildlife; short- and long-term impacts on wildlife population dynamics and habitats; impacts to general health of the rangeland resources; release of pollutants and hazardous materials to the environment during operations and following closure; increase in light pollution in the areas and direct visual impacts from mine facilities; positive and negative socioeconomic impacts to the communities of Ely and Eureka, and to White Pine County; and cumulative impacts to wildlife, wild horses, cultural, air, water, and vegetation resources. The 2 action alternatives were developed to help reduce impacts to greater sage-grouse. Mitigation measures have also been included to show how impacts on resources could be minimized.

The BLM has prepared the Draft EIS in conjunction with its three Cooperating Agencies: Nevada Department of Wildlife, Eureka County, and White Pine County.

Please note that public comments and information submitted including names, street addresses, and email addresses of persons who submit comments will be available for public review and disclosure at the above address during regular business hours (7:30 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR part 1501 and 43 CFR part 3809.

Jill A. Moore,
Field Manager, Egan Field Office.

[FR Doc. 2013-06508 Filed 3-21-13; 8:45 am]

BILLING CODE 4310-HC-P